DEPARTMENT OF THE INTERIOR

National Park Service

National Register of Historic Places; Notification of Pending Nominations

Nominations for the following properties being considered for listing in the National Register were received by the National Park Service before July 31, 2004. Pursuant to section 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington DC 20005; or by fax, 202-371-6447. Written or faxed comments should be submitted by September 10, 2004.

Carol D. Shull,
Keeper of the National Register of Historic Places.

CALIFORNIA

San Francisco County

Woman's Athletic Club of San Francisco, 640 Sutter St., San Francisco, 04000955

DISTRICT OF COLUMBIA

District of Columbia

Oriental Building Association No. 6 Building, 600 F St. NW., Washington, 04000956

GEORGIA

Lowndes County

Sunset Hill Cemetery, 110 N. Oak St., Valdosta, 04000957

MASSACHUSETTS

Middlesex County

Wilson Cemetery, Wilson St., Marlborough, 04000958

Suffolk County

Fort Point Channel Historic District, Necco Court, Thomson Place, A, Binford, Congress, Farmsworth, Melcher, Midway, Sleeper, Stillings, Summer Sts., Boston, 04000959

MISSISSIPPI

Monroe County

Coopwood, Capt. Thomas, House, (Aberdeen MRA) 205 Thayer Ave., Aberdeen, 04000967

South Central Aberdeen Historic District (Boundary Increase), (Aberdeen MRA) Roughly bounded by Madison, Meridian, High, and Long Sts., Aberdeen, 04000961

Warren County

Uptown Vicksburg Historic District (Boundary Increase), (Vicksburg MPS) Mostly on Washington St. bet. Grove St. and Veto St., Vicksburg, 04000962

MISSOURI

St. Charles County

McCormick, Isaac, House, 705 MO F, Defiance, 04000960

NEW HAMPSHIRE

Hillsborough County

Valley Cemetery, Pine and Auburn Sts., Manchester, 04000964

Rockingham County

Stevens Memorial Hall, Jct. NH 121 and NH 102, Chester, 04000963

NORTH CAROLINA

Northampton County

Piland, J.E., House, 148 Mt. Carmel Rd., Margarettsville, 04000966

Wilkes County

Southern Railway Depot, Jct. of Ninth St. and CBD Loop, North Wilkesboro, 04000965

[FR Doc. 04-19493 Filed 8-25-04; 8:45 am]

BILLING CODE 4312-51-P